DEPARTMENT OF ENERGY

Federal Energy Regulatory Commission

Combined Notice of Filings #1

Take notice that the Commission received the following exempt wholesale generator filings:

Docket Numbers: EG20-212-000.

Applicants: Millican Solar Energy LLC.

Description: Notice of Self-Certification of Exempt Wholesale Generator Status of Millican Solar Energy LLC.

Filed Date: 7/16/20.

Accession Number: 20200716-5111.

Comments Due: 5 p.m. ET 8/6/20.

Docket Numbers: EG20-213-000.

Applicants: Prineville Solar Energy LLC.

Description: Notice of Self-Certification of Exempt Wholesale Generator Status of Prineville Solar Energy LLC.

Filed Date: 7/16/20.

Accession Number: 20200716-5114.

Comments Due: 5 p.m. ET 8/6/20.

Take notice that the Commission received the following electric rate filings:

Docket Numbers: ER19-1887-002.

Applicants: Versant Power.

Description: Compliance filing: Response to Order on Compliance Filing (Order No. 845—Docket No. ER19-1887-) to be effective 5/20/2019.

Filed Date: 7/16/20.

Accession Number: 20200716-5005.

Comments Due: 5 p.m. ET 8/6/20.

Docket Numbers: ER19-1947-002.

Applicants: Puget Sound Energy, Inc.

Description: Compliance filing: Order No. 845 Compliance Filing to be effective 5/22/2019.

Filed Date: 7/16/20.

Accession Number: 20200716-5092.

Comments Due: 5 p.m. ET 8/6/20.

Docket Numbers: ER19-2233-003.

Applicants: Smoky Mountain Transmission LLC.

Description: Order Nos. 845 and 845-A Compliance Filing and Request for Waiver of Smoky Mountain Transmission LLC.

Filed Date: 7/16/20.

Accession Number: 20200716-5115.

Comments Due: 5 p.m. ET 8/6/20.

Docket Numbers: ER20-1491-002.

Applicants: Wind Wall 1 LLC.

Description: Tariff Amendment: Second Supplement to Market-Based Rate—Notice of Date Change to be effective 7/17/2020.

Filed Date: 7/16/20.

Accession Number: 20200716-5014.

Comments Due: 5 p.m. ET 8/6/20.

Docket Numbers: ER20-2434-000.

Applicants: Pacific Gas and Electric Company.

Description: Notice of Termination of Generator Special Facilities Agreement, et al. of Pacific Gas and Electric Company.

Filed Date: 7/15/20.

Accession Number: 20200715-5167.

Comments Due: 5 p.m. ET 8/5/20.

Docket Numbers: ER20-2435-000; TS20-6-000.

Applicants: Smoky Mountain Transmission LLC.

Description: Petition for Waiver of Open-Access Requirements of Order Nos. 888, et al. of Smoky Mountain Transmission LLC.

Filed Date: 7/15/20.

Accession Number: 20200715-5172.

Comments Due: 5 p.m. ET 8/5/20.

Docket Numbers: ER20-2436-000.

Applicants: Midcontinent Independent System Operator, Inc.

Description: Compliance filing: 2020-07-16_SA 2871 NSP-North Star Solar 2nd Rev GIA (J385) to be effective 6/30/2020.

Filed Date: 7/16/20.

Accession Number: 20200716-5018.

Comments Due: 5 p.m. ET 8/6/20.

Docket Numbers: ER20-2437-000.

Applicants: Midcontinent Independent System Operator, Inc.

Description: Compliance filing: 2020-07-16_SA 3519 NSP-North Star Solar FSA (J385) to be effective 6/30/2020.

Filed Date: 7/16/20.

Accession Number: 20200716-5019.

Comments Due: 5 p.m. ET 8/6/20.

Docket Numbers: ER20-2438-000.

Applicants: Midcontinent Independent System Operator, Inc.

Description: Compliance filing: 2020-07-16_SA 2885 NSP-Marshall Solar 2nd Rev GIA (J400) to be effective 12/31/9998.

Filed Date: 7/16/20.

Accession Number: 20200716-5021.

Comments Due: 5 p.m. ET 8/6/20.

Docket Numbers: ER20-2439-000.

Applicants: Midcontinent Independent System Operator, Inc.

Description: Compliance filing: 2020-07-16_SA 3514 NSP-Marshall Solar FSA (J400) to be effective 6/30/2020.

Filed Date: 7/16/20.

Accession Number: 20200716-5024.

Comments Due: 5 p.m. ET 8/6/20.

Docket Numbers: ER20-2440-000.

Applicants: Midcontinent Independent System Operator, Inc.

Description: § 205(d) Rate Filing: 2020-07-16_SA 3462 3463 3464 3465 3466 3467 3468 NSPM-GRE T-Ts Filing to be effective 7/16/2020.

Filed Date: 7/16/20.

Accession Number: 20200716-5053.

Comments Due: 5 p.m. ET 8/6/20.

Docket Numbers: ER20-2441-000.

Applicants: Basin Electric Power Cooperative.

Description: Baseline eTariff Filing: Basin Electric Submission of Rate Schedule A to be effective 7/16/2020.

Filed Date: 7/16/20.

Accession Number: 20200716-5067.

Comments Due: 5 p.m. ET 8/6/20.

Docket Numbers: ER20-2442-000.

Applicants: Basin Electric Power Cooperative.

Description: Initial rate filing: Submission of Wholesale Power Contracts FERC Rate Schedules 1 through 19 to be effective 7/16/2020.

Filed Date: 7/16/20.

Accession Number: 20200716-5069.

Comments Due: 5 p.m. ET 8/6/20.

Docket Numbers: ER20-2443-000.

Applicants: California Independent System Operator Corporation.

Description: § 205(d) Rate Filing: 2020-07-16 ESDER 3B to be effective 10/1/2020.

Filed Date: 7/16/20.

Accession Number: 20200716-5076.

Comments Due: 5 p.m. ET 8/6/20.

Docket Numbers: ER20-2444-000.

Applicants: Millican Solar Energy LLC.

Description: Baseline eTariff Filing: Application for Market-Based Rate Authorization to be effective 9/15/2020.

Filed Date: 7/16/20.

Accession Number: 20200716-5093.

Comments Due: 5 p.m. ET 8/6/20.

Docket Numbers: ER20-2445-000.

Applicants: Prineville Solar Energy LLC.

Description: Baseline eTariff Filing: Application for Market-Based Rate Authorization to be effective 9/15/2020.

Filed Date: 7/16/20.

Accession Number: 20200716-5094.

Comments Due: 5 p.m. ET 8/6/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2020.
Nathaniel J. Davis, Sr.,
Deputy Secretary.

[FR Doc. 2020-15875 Filed 7-21-20; 8:45 am]

BILLING CODE 6717-01-P